SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before March 3, 2023.

ADDRESSES: Send all comments to Terrance Moultrie, Supervisor Business Operations Specialist, Government Contracting, Small Business Administration.

FOR FURTHER INFORMATION CONTACT: Terrance Moultrie, Supervisor Business Operations Specialist, Government Contracting, 202-389-6644, terrence.moultrieSr@sba.gov or Curtis B. Rich, Agency Clearance Officer, curtis.rich@sba.gov.

SUPPLEMENTARY INFORMATION:

In carrying out its statutory mandate in 15 U.S.C. 637(m) to provide oversight of certification related to the Women-Owned Small Business Federal Contract Program (WOSB Program), the U.S. Small Business Administration (SBA) is currently approved to collect information from WOSB Program applicants or participants through its certification and information collection platform, Certify.SBA.gov (Certify). SBA is revising this information collection by updating its hourly burden analysis to reflect the new certification requirements, including the new monthly reporting requirement for third-party certifiers, and adding instructions for firms that wish to document their eligibility using their CVE certification.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0374.

Title: “Certification for the Women-Owned Small Business Federal Contract Program”.

Description of Respondents: Women Owned Small Business.

Form Number: 2413, 2414.

Total Estimated Annual Responses: 12,000.

Total Estimated Annual Hour Burden: 24,400.

Curtis Rich,
Agency Clearance Officer.

[FR Doc. 2023-27905 Filed 12-29-23; 8:45 am]

BILLING CODE 8026-09-P